DEPARTMENT OF ENERGY

Federal Energy Regulatory Commission

[Docket No. RP00-394-003]

KO Transmission Company; Notice of Compliance Filing

June 17, 2004.

Take notice that on June 10, 2004, KO Transmission Company (KOT) filed the following tariff sheets for inclusion in its FERC Gas Tariff, Original Volume No. 1, to be effective July 10, 2004:

Second Revised Sheet No. 30;

Second Revised Sheet No. 52;

Second Revised Sheet No. 55;

Second Revised Sheet No. 56;

First Revised Sheet No. 60;

Second Revised Sheet No. 99;

Second Revised Sheet No. 117;

Second Revised Sheet No. 123;

Second Revised Sheet No. 124;

Second Revised Sheet No. 125;

Second Revised Sheet No. 133;

Second Revised Sheet No. 134; and

Second Revised Sheet No. 135.

KOT states that the tariff sheets are submitted in compliance with the Commission's Order dated May 11, 2004, in Docket No. RP00-394-000.

KOT states that copies of its filing will be mailed to all jurisdictional customers.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. This filing is available for review at the Commission in the Public Reference Room or may be viewed on the Commission's Web site at http://www.ferc.gov using the eLibrary link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the e-Filing link.

Linda Mitry,
Acting Secretary.

[FR Doc. E4-1401 Filed 6-23-04; 8:45 am]

BILLING CODE 6717-01-P